DEPARTMENT OF JUSTICE

Notice of Lodging of Proposed Consent Decree Under the Clean Air Act

On September 16, 2024, the Department of Justice lodged a proposed consent decree with the United States District Court for the Western District of Texas in the lawsuit entitled United States v. Cobb Tuning Products, LLC, Civil Action No. 1:24-cv-01091-RP.

The United States filed a complaint against Cobb Tuning Products, LLC (“Cobb Tuning”) alleging violations of the Clean Air Act related to Cobb Tuning's manufacture, offer for sale, and sale of devices that defeat emission controls in automobiles. The proposed consent decree resolves the claims alleged in the complaint. The proposed consent decree requires Cobb Tuning to pay a penalty of $2,914,000 over three years based on its ability to pay and to perform injunctive relief.

The publication of this notice opens a period for public comment on the proposed consent decree. Comments should be addressed to the Assistant Attorney General, Environment and Natural Resources Division, and should refer to United States v. Cobb Tuning Products, LLC, D.J. Ref. No. 90-5-2-1-12096. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

Scott Bauer,
Assistant Section Chief, Environmental Enforcement Section, Environment and Natural Resources Division.

[FR Doc. 2024-21659 Filed 9-20-24; 8:45 am]

BILLING CODE 4410-15-P